TENNESSEE VALLEY AUTHORITY

Sunshine Act Meeting

Agency Holding the Meeting: Tennessee Valley Authority (Meeting No. 1541).

Time and Date: 9 a.m. (EDT), September 10, 2002.

Place: TVA West Tower Auditorium, 400 West Summit Hill Drive, Knoxville, Tennessee.

Status: Open.

Agenda

Approval of minutes of meeting held on July 23, 2002.

New Business

Discussion Item

Budget and Financing

A1. Approval of short-term borrowing from the United States Treasury.

A2. Approval of Fiscal Year 2003 TVA budget and change in accounting policy.

C—Energy

C1. Supplements to contracts with MESA Associates, Inc., and Sargent & Lundy LLC for engineering and design services.

C2. Contract with Pinkerton Government Services, Inc., for security services.

C3. Extension through 2010 of the march 3, 1999, delegation of authority to the Senior Vice President, Procurement, or a designee, to enter into individual contracts of up to $15 million each for uranium.

C4. Contract with Westinghouse Process Controls, Inc., for a distributed control system at various fossil plants.

Real Property Transactions

E1. Approval of the Pickwick Reservoir Land Management Plan for the use and management of 19,238 acres of land on Pickwick Reservoir in Colbert and Lauderdale Counties, Alabama; Tishomingo County, Mississippi; and Hardin County, Tennessee.

E2. Public auction sale of approximately 6 acres of land on Pickwick Reservoir in Tishomingo County, Mississippi, to facilitate industrial development, Tract No. XYECR-13.

E3. Sale of a permanent easement to the Pickwick Cemetery Association for a cemetery expansion, affecting approximately .3 acre of land on Pickwick Reservoir in Hardin County, Tennessee, Tract No. XPR-465CE.

E4. Sale of noncommercial, nonexclusive permanent easements to Hiwassee Properties, Inc., Tract No. XTELR-230RE; Robert D. and Carolyn A. Franke, Tract No. XTELR-231RE; and Bobby E. Booker, Tract No. XTELR-232RE, affecting approximately .21 acre of land on Tellico Reservoir in Loudon and Monroe Counties, Tennessee, for construction and maintenance of recreational water-use facilities on Tellico Reservoir in Loudon and Monroe Counties, Tennessee.

E5. Grant of a permanent easement to the City of Lexington, Tennessee, for highway improvement purposes affecting approximately .12 acre of land on the Beech Dam Reservation in Henderson County, Tennessee, Tract No. XTBRBR-4H.

E6. Grant of a 30-year term public recreation easement to the Alabama Department of Conservation and Natural Resources, affecting approximately 6,486 acres of land on Pickwick Reservoir in Lauderdale County, Alabama, Tract No. XTPR-60WL.

E7. Transfer of 811 acres of land on Tims Ford Reservoir in Franklin and Moore Counties, Tennessee, Tract Nos. XTTMFR-23 through -41, to the State of Tennessee; grant of a permanent easement for state office building purposes affecting .4 acre of land in Franklin County, Tennessee, and grant of a permanent easement for a water intake and pumping station affecting .2 acre in Moore County, Tennessee, Tract Nos. XTTMFR-43B and XTTMFR-44PS; and acquisition of 2,000 acres of land in Franklin and Moore Counties, Tennessee, from the State of Tennessee, Tract Nos. TMFR-3409 through -3518.

E8. Grant of a permanent easement for an office/operations building to Tellico Area Services System, affecting approximately 4.7 acres of land on Tellico Reservoir in Monroe County, Tennessee, Tract No. XTTELR-41E.

E9. Grant of a 19-year term public recreation easement to the Alabama Department of Conservation and Natural Resources, affecting approximately .2 acre of land on Guntersville Reservoir in Jackson County, Alabama, Tract No. XTGR-170RE.

E10. Public auction sale of approximately 2.56 acres in Whitfield County, Georgia, Tract Nos. XRSCP-1, XRSCP-2, XRSCP-3, XRSCP-4, and XRSCP-5.

Information Items

1. Approval of wholesale power contract flexibility options.

2. Approval to supplement contract with Page Clearing Contractors for right-of-way clearing to support new transmission line construction.

3. Approval of contract with Universal Construction Company, Inc., for the construction of a new administration building at Browns Ferry Nuclear Plant.

4. Approval of membership and chair appointments to the second-term Regional Resource Stewardship Council.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: September 3, 2002.
Maureen H. Dunn,
General Counsel and Secretary.

[FR Doc. 02-22849 Filed 9-4-02; 3:52 pm]

BILLING CODE 8120-08-M